NATIONAL AERONAUTICS AND SPACE ADMINISTRATION

[Notice 14-071]

NASA Advisory Council; Institutional Committee; Meeting

AGENCY: National Aeronautics and Space Administration.

ACTION: Notice of Meeting.

SUMMARY: In accordance with the Federal Advisory Committee Act, Public Law 92-463, as amended, the National Aeronautics and Space Administration announces a meeting of the NASA Advisory Council (NAC) Institutional Committee. This committee reports to the NAC.

DATES: Tuesday, July 29, 2014, 8:00 a.m.-3:00 p.m., Local Time

ADDRESSES: NASA Langley Research Center, 5 Langley Boulevard, Building 2101, Room 205B, Hampton, VA 23681

FOR FURTHER INFORMATION CONTACT: Mr. Todd Mullins, NAC Institutional Committee Executive Secretary, NASA Headquarters, Washington, DC 20546, 202-358-3831.

SUPPLEMENTARY INFORMATION: The meeting will be open to the public up to the seating capacity of the room. This meeting is also available telephonically and by WebEx. You must use a touch tone phone to participate in this meeting. Any interested person may dial the toll free access number 844-467-6272 or toll access number 720-259-6462, and then the numeric participant passcode: 415447 followed by the # sign. To join via WebEx, the link is https://nasa.webex.com/, the meeting number is 397 119 933, and the password is IC-072914; (Password is case sensitive.) Note: If dialing in, please “mute” your telephone. The agenda for the meeting will include the following:

—Mission Support Overview

—NASA IT Overview

—Acquisition, Contracts, and Grants Processing Overview

Attendees will be requested to sign a register and to comply with NASA Langley Research Center (LaRC) security requirements, including the presentation of a valid picture ID before receiving access to NASA Langley Research Center. Foreign nationals attending this meeting will be required to provide a copy of their passport and visa in addition to providing the following information no less than 10 working days prior to the meeting: Full name; gender; date/place of birth; citizenship; visa/green card information (number, type, expiration date); passport information (number, country, telephone); employer/affiliation information (name of institution, address, country, telephone); title/position of attendee. To expedite admittance, attendees with U.S. citizenship and Permanent Residents (green card holders) can provide identifying information 3 working days in advance by contacting Ms. Cheryl Cleghorn, via email at cheryl.w.cleghorn@nasa.gov or by telephone at 757-864-2497. It is imperative that the meeting be held on this date to accommodate the scheduling priorities of the key participants.

Patricia D. Rausch,
Advisory Committee Management Officer, National Aeronautics and Space Administration.

[FR Doc. 2014-16439 Filed 7-14-14; 8:45 am]

BILLING CODE 7510-13-P